DEPARTMENT OF THE INTERIOR

National Park Service

[N6870; NPS-WASO-NAGPRA-NPS0041860; PPWOCRADN0-PCU00RP14.R50000]

Notice of Inventory Completion: Arizona State University, School of Human Evolution and Social Change, Tempe, AZ

AGENCY: National Park Service, Interior.

ACTION: Notice.

SUMMARY: In accordance with the Native American Graves Protection and Repatriation Act (NAGPRA), the Center for Archeology and Society Repository (acting in place of the Arizona State University School of Human Evolution and Social Change) has completed an inventory of human remains and associated funerary objects and has determined that there is a cultural affiliation between the human remains and associated funerary objects and Indian Tribes or Native Hawaiian organizations in this notice.

DATES: Repatriation of the human remains and associated funerary objects in this notice may occur on or after February 17, 2026.

ADDRESSES: Send written requests for repatriation of the human remains and associated funerary objects in this notice to Allisen Dahlstedt, Arizona State University, School of Human Evolution and Social Change, P.O. Box 872402, Tempe, AZ 85287-2402, email Allisen.Dahlstedt@asu.edu and Christopher Caseldine, Arizona State University, School of Human Evolution and Social Change, P.O. Box 872402, Tempe, AZ 85287-2402, email Christopher.Caseldine@asu.edu.

SUPPLEMENTARY INFORMATION: This notice is published as part of the National Park Service's administrative responsibilities under NAGPRA. The determinations in this notice are the sole responsibility of the Arizona State University (ASU) Center for Archaeology and Society Repository (CASR), and additional information on the determinations in this notice, including the results of consultation, can be found in the inventory or related records. The National Park Service is not responsible for the determinations in this notice.

Abstract of Information Available

Human remains representing at least six individuals have been identified. The 38 associated funerary objects are nine lots of ceramics, six lots of chipped stone, four lots of shell, nine lots of faunal bone, four lots of samples, one lot of botanicals, one lot of glass, three lots of other stone, and one lot of post/beam wood.

In the spring and fall semesters of 1972, human remains representing, at minimum, six individuals were removed from the Sce:dagĭ Mu:val Va'aki site in Maricopa County, AZ during field schools conducted by Wilburn A. Cockrell and Dr. Barbara Stark, respectively. Archaeological evidence suggests the site was occupied between A.D. 1150 and 1500, during the Hohokam Early to Late Classic Periods. After these field seasons, the collection was curated by the then Department of Anthropology, now School of Human Evolution and Social Change, at ASU's Center for Archaeology and Society Repository (CASR).

Cultural Affiliation

Based on the information available and the results of consultation, cultural affiliation is clearly identified by the information available about the human remains and associated funerary objects described in this notice.

Determinations

The Arizona State University (ASU) Center for Archaeology and Society Repository (CASR) has determined that:

• The human remains described in this notice represent the physical remains of six individuals of Native American ancestry.

• The 38 objects described in this notice are reasonably believed to have been placed intentionally with or near individual human remains at the time of death or later as part of the death rite or ceremony.

• There is a connection between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation . . .

Repatriation of the human remains and associated funerary objects in this notice to a requestor may occur on or after February 17, 2026. If competing requests for repatriation are received, the ASU Center for Archaeology and Society Repository must determine the most appropriate requestor prior to repatriation. Requests for joint repatriation of the human remains and associated funerary objects are considered a single request and not competing requests. The ASU Center for Archaeology and Society Repository is responsible for sending a copy of this notice to the Indian Tribes and Native Hawaiian organizations identified in this notice and any other consulting parties.

Authority: Native American Graves Protection and Repatriation Act, 25 U.S.C. 3003, and the implementing regulations, 43 CFR 10.10.

Dated: January 9, 2026.
Melanie O'Brien,
Manager, National NAGPRA Program.

[FR Doc. 2026-00861 Filed 1-15-26; 8:45 am]

BILLING CODE 4312-52-P